NATIONAL ARCHIVES AND RECORDS ADMINISTRATION

Information Security Oversight Office

[NARA-2014-010]

State, Local, Tribal, and Private Sector Policy Advisory Committee (SLTP-PAC)

AGENCY: National Archives and Records Administration (NARA).

ACTION: Meeting Notice.

SUMMARY: In accordance with the Federal Advisory Committee Act, as amended (5 U.S.C. appendix 2), the National Archives and Records Administration (NARA) announces a meeting of the State, Local, Tribal, and Private Sector Policy Advisory Committee (SLTP-PAC). The meeting will be held to discuss matters relating to the Classified National Security Information Program for State, Local, Tribal, and Private Sector Entities. The meeting will be open to the public.

DATES: The meeting will be held on January 24, 2014, from 10:00 a.m. to 12:00 noon.

ADDRESSES: National Archives and Records Administration; 700 Pennsylvania Avenue NW., Jefferson Room; Washington, DC 20408.

FOR FURTHER INFORMATION CONTACT: Robert J. Skwirot, Senior Program Analyst, ISOO, National Archives Building; 700 Pennsylvania Avenue NW., Washington, DC 20408, at (202) 357-5398, or at robert.skwirot@nara.gov. Contact ISOO at ISOO@nara.gov.

SUPPLEMENTARY INFORMATION: Due to space limitations and access procedures, you must submit to ISOO no later than Friday, January 17, 2014, the name and telephone number of individuals planning to attend. ISOO will provide additional instructions for gaining access to the location of the meeting.

Dated: December 5, 2013.
Patrice Little Murray,
Acting Committee Management Officer.

[FR Doc. 2013-29538 Filed 12-10-13; 8:45 am]

BILLING CODE 7515-01-P